Proclamation 7393 of January 17, 2001

Establishment of the Carrizo Plain National Monument

By the President of the United States of America

A Proclamation

Full of natural splendor and rich in human history, the majestic grasslands and stark ridges in the Carrizo Plain National Monument contain exceptional objects of scientific and historic interest. Since the mid-1800s, large portions of the grasslands that once spanned the entire four hundred mile expanse of California's nearby San Joaquin Valley and other valleys in the vicinity have been eliminated by extensive land conversion to agricultural, industrial, and urban land uses. The Carrizo Plain National Monument, which is dramatically bisected by the San Andreas Fault zone, is the largest undeveloped remnant of this ecosystem, providing crucial habitat for the long-term conservation of the many endemic plant and animal species that still inhabit the area.

The monument offers a refuge for endangered, threatened, and rare animal species such as the San Joaquin kit fox, the California condor, the blunt-nosed leopard lizard, the giant kangaroo rat, the San Joaquin antelope squirrel, the longhorn fairy shrimp, and the vernal pool fairy shrimp. It supports important populations of pronghorn antelope and tule elk. The area is also home to many rare and sensitive plant species, including the California jewelflower, the Hoover's woolly-star, the San-Joaquin woolly-threads, the pale-yellow layia, the forked fiddleneck, the Carrizo peppergrass, the Lost Hills saltbush, the Temblor buckwheat, the recurved larkspur, and the Munz's tidy-tips. Despite past human use, the size, isolation, and relatively undeveloped nature of the area make it ideal for long-term conservation of the dwindling flora and fauna characteristic of the San Joaquin Valley region.

The Carrizo Plain National Monument also encompasses Soda Lake, the largest remaining natural alkali wetland in southern California and the only closed basin within the coastal mountains. As its name suggests, Soda Lake concentrates salts as water is evaporated away, leaving white deposits of sulfates and carbonates. Despite this harsh environment, small plant and animal species are well adapted to the setting, which is also important to migratory birds. During the winter months the lake fills with water and teems with thousands of beautiful lesser sandhill cranes, long-billed curlews, and mountain plovers.

The Carrizo Plain National Monument owes its existence to the geologic processes that occur along the San Andreas Fault, where two of the Earth's five great tectonic plates slide past one another, parallel to the axis of the Plain. Shifting along the fault created the Plain by rumpling the rocks to the northeast into the Temblor Range and isolating the Plain from the rest of the San Joaquin Valley. The area is world-famous for its spectacular exposures of fault-generated landforms. Stream valleys emerge from the adjacent mountains, only to take dramatic right-angle turns where they intersect the fault. Ponds and sags form where the ground is extended and subsides between branches of the fault. Benches form where the fault offsets valley walls. Many dramatic landscape features are products of the interplay between very rapid fault movement and slower erosion. The dry climate of the area produces low erosion rates, thereby preserving the spectacular effects of fault slip, folding, and warping. On the Plain, these fault-related events happen intermittently, but with great force. In 1857, the strongest earthquake in California's recorded history ripped through the San Andreas Fault, wrenching the western side of the Carrizo Plain National Monument thirty-one feet northward.

The area is also distinguished for its significant fossil assemblages. The Caliente Formation, exposed on the southeast side of the Caliente Range, is host to abundant and diverse terrestrial fossil mammal remains of the Miocene Epoch (from 13 million to 25 million years ago). Fossils of five North American provincial mammalian ages (Arikareean, Hemingfordian, Barstovian, Clarendonian, Hemphillian) are represented in sedimentary rocks in that formation. These terrestrial fossil remains are interlaced with marine sedimentary rocks bearing fossils of mollusks, pectens, turitellas, and oysters.

In addition to its geologic and biological wealth, the area is rich in human history. Archaeologists theorize that humans have occupied the Carrizo Plain National Monument area since the Paleo-Indian Period (circa 11,000 to 9,000 B.C.). Bedrock mortar milling features, village middens, and elaborate pictographs are the primary manifestations of prehistoric occupation. Some of these, such as the Painted Rock and Sulphur Springs rock art sites, are recognized as world class. European expeditions through the area date back to the late 1700s, with settlement beginning in the 1850s. Livestock ranching, farming, and mining activities in the last century and a half are evidenced by numerous artifacts and historic ranch properties within the area.

Section 2 of the Act of June 8, 1906 (34 Stat. 225, 16 U.S.C. 431), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS it appears that it would be in the public interest to reserve such lands as a national monument to be known as the Carrizo Plain National Monument:

NOW, THEREFORE, I, WILLIAM J. CLINTON, President of the United States of America, by the authority vested in me by section 2 of the Act of June 8, 1906 (34 Stat. 225, 16 U.S.C. 431), do proclaim that there are hereby set apart and reserved as the Carrizo Plain National Monument, for the purpose of protecting the objects identified above, all lands and interests in lands owned or controlled by the United States within the boundaries of the area described on the map entitled “Carrizo Plain National Monument” attached to and forming a part of this proclamation. The Federal land and interests in land reserved consist of approximately 204,107 acres, which is the smallest area compatible with the proper care and management of the objects to be protected.

All Federal lands and interests in lands within the boundaries of this monument are hereby appropriated and withdrawn from all forms of entry, location, selection, sale, or leasing or other disposition under the public land laws, including but not limited to withdrawal from location, entry, and patent under the mining laws, and from disposition under all laws relating to mineral and geothermal leasing, other than by exchange that furthers the protective purposes of the monument. For the purpose of protecting the objects identified above, the Secretary shall prohibit all motorized and mechanized vehicle use off road, except for emergency or authorized administrative purposes.

Lands and interests in lands within the proposed monument not owned by the United States shall be reserved as a part of the monument upon acquisition of title thereto by the United States.

The Secretary of the Interior shall manage the monument through the Bureau of Land Management, pursuant to applicable legal authorities, to implement the purposes of this proclamation.

The Secretary of the Interior shall prepare a management plan that addresses the actions, including road closures or travel restrictions, necessary to protect the objects identified in this proclamation.

The establishment of this monument is subject to valid existing rights.

Nothing in this proclamation shall be deemed to enlarge or diminish the jurisdiction of the State of California with respect to fish and wildlife management.

There is hereby reserved, as of the date of this proclamation and subject to valid existing rights, a quantity of water sufficient to fulfill the purposes for which this monument is established. Nothing in this reservation shall be construed as a relinquishment or reduction of any water use or rights reserved or appropriated by the United States on or before the date of this proclamation.

Laws, regulations, and policies followed by the Bureau of Land Management in issuing and administering grazing permits or leases on all lands under its jurisdiction shall continue to apply with regard to the lands in the monument.

Nothing in this proclamation shall be deemed to revoke any existing withdrawal, reservation, or appropriation; however, the national monument shall be the dominant reservation.

Warning is hereby given to all unauthorized persons not to appropriate, injure, destroy, or remove any feature of this monument and not to locate or settle upon any of the lands thereof.

IN WITNESS WHEREOF, I have hereunto set my hand this seventeenth day of January, in the year of our Lord two thousand one, and of the Independence of the United States of America the two hundred and twenty-fifth.

Billing code 3195-01-P

[FR Doc. 01-2098

Filed 1-19-01; 8:45 am]

Billing code 3195-01-C